DEPARTMENT OF COMMERCE

National Oceanic and Atmospheric Administration

RIN 0648-AY12

Mid-Atlantic Fishery Management Council; Spiny Dogfish Amendment 3 Scoping Process

AGENCY: National Marine Fisheries Service (NMFS), National Oceanic and Atmospheric Administration (NOAA), Commerce.

ACTION: Notice of intent to prepare an Environmental Impact Statement (EIS); request for comments.

SUMMARY: The Mid-Atlantic and New England Fishery Management Councils (Councils), in cooperation with NMFS, announce that they may address two issues that were not noted in the initial Notice of Intent (NOI) for Amendment 3 to the Spiny Dogfish Fishery Management Plan (FMP). This notice announces a public process to solicit scoping comments on the two additional issues, which relate to Essential Fish Habitat (EFH) designations and commercial quota management. The scoping comment period for issues previously announced for Amendment 3 to the Spiny Dogfish Fishery Management Plan (FMP) closed on September 4, 2009. Please focus comments on these two additional issues not listed in the original NOI.

DATES: Written comments must be received on or before 5 p.m., EST, on June 1, 2010.

ADDRESSES: Written comments may be sent by any of the following methods:

• E-mail to the following address: dogfish3@noaa.gov. Please note on your correspondence and in the subject line of e-mail comments the following identifier: “Spiny Dogfish Amendment 3—Additional Scoping Comments.”;

• Mail or hand deliver to Daniel T. Furlong, Executive Director, Mid-Atlantic Fishery Management Council, Suite 201, 800 N. State Street, Dover, DE 19901. Mark the outside of the envelope “Spiny Dogfish Amendment 3—Additional Scoping Comments”; or

• Fax to (302) 674-5399.

FOR FURTHER INFORMATION CONTACT: Mr. Daniel T. Furlong, Mid-Atlantic Fishery Management Council, Suite 201, 800 N. State Street, Dover, DE 19901, (telephone 302-674-2331).

SUPPLEMENTARY INFORMATION: The initial NOI was published in the Federal Register on August 5, 2009 (74 FR 39063). This NOI solicited comments for the following issues to be addressed in Amendment 3: Including a Research-Set-Aside (RSA) provision in the FMP, reviewing various commercial quota allocation alternatives, specifying the spiny dogfish quota and/or trip limits by sex, creating a limited access spiny dogfish permit, and developing management measures for the recreational spiny dogfish fishery. Since the initial scoping meetings, two additional issues have been identified for consideration in this Amendment:

1) Identify the geographic extent and ecological characteristics of EFH for spiny dogfish, and evaluate impacts of the spiny dogfish fishery on EFH for all federally managed species in the Northeast region. Amendment 3 will include revisions to EFH designations and the fishing impact analysis that were originally done in the 1999 FMP. It will also include any new information on non-fishing-related activities that may adversely impact spiny dogfish EFH, any appropriate habitat conservation and enhancement recommendations, revisions to the descriptions of prey species and their habitats, and a list of research and information needs. It could also identify Habitat Areas of Particular Concern for spiny dogfish, if appropriate.

2) Rollover of Annual Management Measures: Annual management measures are specified for each spiny dogfish fishing year (May 1 through April 30). If there is a delay in the development of annual management measures for spiny dogfish, the FMP does not currently specify that measures, such as the commercial quota, would continue in effect from one fishing year to the next. The Council is considering modifying the FMP to allow measures to remain in effect at the start of any fishing year if new management measures have not yet been specified for that year.

The scoping document for Amendment 3 has been modified to accommodate these two additional issues and may be obtained from the Council office (see ADDRESSES), or by request to the Council by telephone (302) 674-2331, or via the Internet at http://www.mafmc.org/mid-atlantic/comments/comments.htm.

Authority: 16 U.S.C. 1801 et seq.

Dated: May 10, 2010
James P. Burgess,
Acting Director, Office of Sustainable Fisheries, National Marine Fisheries Service.

[FR Doc. 2010-11461 Filed 5-12-10; 8:45 am]

BILLING CODE 3510-22-S